DEPARTMENT OF TRANSPORTATION

Office of the Secretary of Transportation

Notice of Funding Opportunity for the Department of Transportation's National Infrastructure Investments Under the Consolidated Appropriations Act, 2016

AGENCY: Office of the Secretary of Transportation, DOT.

ACTION: Notice of funding opportunity.

SUMMARY: The Consolidated Appropriations Act, 2016 (Pub. L. 114-113, December 18, 2015) (“FY 2016 Appropriations Act” or the “Act”) appropriated $500 million to be awarded by the Department of Transportation (“DOT” or the “Department”) for National Infrastructure Investments. This appropriation is similar, but not identical, to the program funded and implemented pursuant to the American Recovery and Reinvestment Act of 2009 (the “Recovery Act”) known as the Transportation Investment Generating Economic Recovery, or “TIGER Discretionary Grants,” program. Because of the similarity in program structure, DOT will continue to refer to the program as “TIGER Discretionary Grants.” Funds for the FY 2016 TIGER program (“TIGER FY 2016”) are to be awarded on a competitive basis for projects that will have a significant impact on the Nation, a metropolitan area, or a region. The purpose of this final notice is to solicit applications for TIGER Discretionary Grants.

DATES: Applications must be submitted by 8:00 p.m. EDT on April 29, 2016.

ADDRESSES: Applications must be submitted through Grants.gov.

FOR FURTHER INFORMATION CONTACT: For further information concerning this notice, please contact the TIGER Discretionary Grants program staff via email at TIGERGrants@dot.gov, or call Howard Hill at 202-366-0301. A TDD is available for individuals who are deaf or hard of hearing at 202-366-3993. In addition, DOT will regularly post answers to questions and requests for clarifications as well as information about webinars for further guidance on DOT's Web site at www.transportation.gov/TIGER.

SUPPLEMENTARY INFORMATION: This notice is substantially similar to the final notice published for the TIGER Discretionary Grants program in the Federal Register on April 3, 2015 (80 FR 18283) for fiscal year 2015 funds. However, unlike that round of TIGER Discretionary Grants, this year a pre-application is not required to enhance efficiency of review. In addition, this round of TIGER Discretionary Grants reduces the minimum grant to $5 million from $10 million for urban areas and maximum grant to $100 million from $200 million, as specified in the FY 2016 Appropriations Act. Additionally, the FY 2016 Appropriations Act extends the amount of time that 2016 TIGER funds are available for obligation by one additional year, to expire September 30, 2019. Each section of this notice contains information and instructions relevant to the application process for these TIGER Discretionary Grants, and all applicants should read this notice in its entirety so that they have the information they need to submit eligible and competitive applications.

Table of Contents

A. Program Description

B. Federal Award Information

C. Eligibility Information

D. Application and Submission Information

E. Application Review Information

F. Federal Award Administration Information

G. Federal Awarding Agency Contacts

H. Other Information

A. Program Description

Since the TIGER Discretionary Grants program was first created, $4.6 billion has been awarded for capital investments in surface transportation infrastructure over seven rounds of competitive grants. The TIGER Discretionary Grants program seeks to award projects that advance DOT's strategic goals for the nation's transportation system found in DOT's Strategic Plan for FY 2014-FY 2018 (https://www.transportation.gov/policy-initiatives/draft-dot-strategic-plan-fy-2014-2018). Section E, Application Review Information, of this notice describes the TIGER Discretionary Grants selection criteria based on these goals. Please see DOT's Web site at www.transportation.gov/TIGER for background on previous rounds of TIGER Discretionary Grants.

Throughout the TIGER program, TIGER Discretionary Grants awards have supported innovative projects, including multimodal and multijurisdictional projects which are difficult to fund through traditional Federal programs. Successful TIGER projects leverage resources, encourage partnership, catalyze investment and growth, fill a critical void in the transportation system or provide a substantial benefit to the nation, region or metropolitan area in which the project is located. The FY 2016 TIGER program will continue to make transformative surface transportation investments that dramatically improve the status quo by providing significant and measurable improvements over existing conditions. Transformative improvements anchor broad and long-lasting, positive changes in economic development, safety, quality of life, environmental sustainability, or state of good repair. Because each TIGER project is unique, applicants are encouraged to present, in measurable terms, how TIGER investment will lead to transformative change(s) in their community.

The FY 2016 TIGER program will fund transformative projects of all eligible types, including projects that promote Ladders of Opportunity, to the extent permitted by law. The FY 2014 TIGER and FY 2015 TIGER programs gave consideration to projects that sought to improve access to reliable, safe, and affordable transportation for disconnected communities in urban, suburban, and rural areas. This included, but was not limited to, capital projects that better connected people to jobs, removed physical barriers to access, and strengthened communities through neighborhood redevelopment. The FY 2015 and 2016 TIGER programs clearly identify this concept as Ladders of Opportunity. Ladders of Opportunity projects may increase connectivity to employment, education, services and other opportunities; support workforce development; or contribute to community revitalization, particularly for disadvantaged groups: Low income groups, persons with visible and hidden disabilities, elderly individuals, and minority persons and populations.

B. Federal Award Information

The FY 2016 Appropriations Act appropriated $500 million to be awarded by DOT for the TIGER Discretionary Grants program. The FY 2016 TIGER Discretionary Grants are for capital investments in surface transportation infrastructure and are to be awarded on a competitive basis for projects that will have a significant impact on the Nation, a metropolitan area, or a region. The Act also allows DOT to use a small portion of the $500 million for oversight and administration of grants and credit assistance made under the TIGER Discretionary Grants program. If this solicitation does not result in the award and obligation of all available funds, DOT may publish additional solicitations.

The FY 2016 Appropriations Act specifies that TIGER Discretionary Grants may not be less than $5 million and not greater than $100 million, except that for projects located in rural areas (as defined in Section C.3) the minimum TIGER Discretionary Grant size is $1 million.

Pursuant to the FY 2016 Appropriations Act, no more than 20 percent of the funds made available for TIGER Discretionary Grants (or $100 million) may be awarded to projects in a single State. The Act also directs that not less than 20 percent of the funds provided for TIGER Discretionary Grants (or $100 million) shall be used for projects located in rural areas. Further, DOT must take measures to ensure an equitable geographic distribution of grant funds, an appropriate balance in addressing the needs of urban and rural areas, and investment in a variety of transportation modes.

The FY 2016 Appropriations Act requires that FY 2016 TIGER funds are only available for obligation through September 30, 2019. Obligation occurs when a selected applicant and DOT enter into a written grant agreement and is generally after the applicant has satisfied applicable administrative requirements, including transportation planning and environmental review requirements. No FY 2016 TIGER funds may be expended (actually paid out) after September 30, 2024. As part of the review and selection process described in Section E.2., DOT will consider whether a project is ready to proceed with an obligation of grant funds from DOT within the statutory time provided. No waiver is possible for these deadlines.

The FY 2016 Appropriations Act allows for up to 20 percent of available funds (or $100 million) to be used by the Department to pay the subsidy and administrative costs for a project receiving credit assistance under the Transportation Infrastructure Finance and Innovation Act of 1998 (“TIFIA”) program, if that use of the FY 2016 TIGER funds would further the purposes of the TIGER Discretionary Grants program.

Recipients of prior TIGER Discretionary Grants may apply for funding to support additional phases of a project awarded funds in earlier rounds of this program. However, to be competitive, the applicant should demonstrate the extent to which the previously funded project phase has been able to meet estimated project schedules and budget, as well as the ability to realize the benefits expected for the project.

A relevant DOT modal administration will administer each TIGER Discretionary Grant, pursuant to a grant agreement between the TIGER Discretionary Grant recipient and that modal administration.

C. Eligibility Information

To be selected for a TIGER Discretionary Grant, an applicant must be an Eligible Applicant and the project must be an Eligible Project.

1. Eligible Applicants

Eligible Applicants for TIGER Discretionary Grants are State, local, and tribal governments, including U.S. territories, transit agencies, port authorities, metropolitan planning organizations (MPOs), and other political subdivisions of State or local governments.

Multiple States or jurisdictions may submit a joint application and must identify a lead applicant as the primary point of contact, and also identify the primary recipient of the award. Each applicant in a joint application must be an Eligible Applicant. Joint applications must include a description of the roles and responsibilities of each applicant and must be signed by each applicant.

2. Cost Sharing or Matching

TIGER Discretionary Grants may be used for up to 80 percent of the costs of a project located in an urban area¹ and up to 100 percent of the costs of a project located in a rural area. Urban area and rural area are defined in section C.3.ii of this notice. Matching funds are subject to the same Federal requirements described in Section F.2. as awarded funds.

¹ To meet match requirements, the minimum total project cost for a project located in an urban area must be $6.25 million.

DOT will consider the following funds or contributions as a local match for the purpose of this program, and as further described in Section F.1.v:

• Non-Federal funds

• Funds from the Tribal Transportation Program (23 U.S.C. 202)

But DOT cannot consider the following funds or contributions as a local match:

• Funds already expended (or otherwise encumbered)

• Funds for which the source of those funds is ultimately a Federal program.

• Toll credits under 23 U.S.C. 120(i)

3. Other

i. Eligible Projects—Eligible projects for TIGER Discretionary Grants are capital projects that include, but are not limited to: (1) Highway or bridge projects eligible under title 23, United States Code (including bicycle and pedestrian related projects); (2) public transportation projects eligible under chapter 53 of title 49, United States Code; (3) passenger and freight rail transportation projects; (4) port infrastructure investments (including inland port infrastructure and land ports of entry); and (5) intermodal projects. This description of eligible projects is identical to the description of eligible projects under earlier rounds of the TIGER Discretionary Grants program.² Research, demonstration, or pilot projects are eligible only if they result in long-term, permanent surface transportation infrastructure that has independent utility as defined in Section C.3.iii. Applicants are strongly encouraged to submit applications only for eligible award amounts.

² Please note that the Department may use a TIGER Discretionary Grant to pay for the surface transportation components of a broader project that has non-surface transportation components, and applicants are encouraged to apply for TIGER Discretionary Grants to pay for the surface transportation components of these projects.

ii. Rural/Urban Definition—For purposes of this notice, DOT defines “rural area” as any area not within an Urbanized Area, as such term is defined by the Census Bureau,³ and will consider a project to be in a rural area if all or the majority of a project (determined by geographic location(s) where the majority of project money is to be spent) is located in a rural area. In this notice “urban” means not rural. This definition affects three aspects of the program. First, the FY 2016 Appropriations Act directs that not less than $100 million of the funds provided for TIGER Discretionary Grants are to be used for projects in rural areas. Second, for a project in a rural area the minimum award is $1 million. Third, the Secretary may increase the Federal share above 80 percent to pay for the costs of a project in a rural area.

³ For Census 2010, the Census Bureau defined an Urbanized Area (UA) as an area that consists of densely settled territory that contains 50,000 or more people. Updated lists of UAs are available on the Census Bureau Web site at http://www2.census.gov/geo/maps/dc10map/UAUC_RefMap/ua/. Urban Clusters (UCs) are rural areas for purposes of the TIGER Discretionary Grants program. Please note that while individual jurisdictions might have a population of fewer than 50,000, if they are included as part of an UA, they will be classified as urban for purposes of the TIGER program.

To the extent more than a de minimis portion of a project is located in an Urbanized Area, applicants should identify the estimated percentage of project costs that will be spent in Urbanized Areas and the estimated percentage that will be spent in rural areas. The Department will not provide an award to a project in a rural area without information showing that the majority of the project funds will be expended in a rural area. Rural and urban definitions differ in some other DOT programs, including TIFIA and the Nationally Significant Freight and Highway Projects Program (§ 1105; 23 U.S.C. 117).

iii. Project Components—An application may describe a project that contains more than one component, and may describe components that may be carried out by parties other than the applicant. DOT may award funds for a component, instead of the larger project, if that component (1) independently meets minimum award amounts described in Section B and all eligibility requirements described in Section C; (2) independently aligns well with the selection criteria specified in Section E; and (3) meets National Environmental Policy Act (NEPA) requirements with respect to independent utility. Independent utility means that the component will represent a transportation improvement that is usable and represents a reasonable expenditure of DOT funds even if no other improvements are made in the area, and will be ready for intended use upon completion of that component's construction. All project components that are presented together in a single application must demonstrate a relationship or connection between them. (See Section D.2.f. for Required Approvals).

Applicants should be aware that, depending upon the relationship between project components and upon applicable Federal law, DOT funding of only some project components may make other project components subject to Federal requirements as described in Section F.2.

DOT strongly encourages applicants to identify in their applications the project components that have independent utility and separately detail costs and requested TIGER funding for those components. If the application identifies one or more independent project components, the application should clearly identify how each independent component addresses selection criteria and produces benefits on its own, in addition to describing how the full proposal of which the independent component is a part addresses selection criteria.

iv. Limit on Number of Applications—Each lead applicant may submit no more than three applications. Unrelated project components should not be bundled in an application for the purpose of avoiding the three applications per lead applicant limit. Please note that the three-application limit applies only to applications where the applicant is the lead applicant. There is no limit on the number of applications for which an applicant can be listed as a partnering agency. If a lead applicant submits more than three applications as the lead applicant, only the first three received will be considered. The Nationally Significant Freight and Highway Projects (NSFHP) program (§ 1105; 23 U.S.C. 117) and the 2016 TIGER Discretionary Grant program have independent application limits. Applicants applying to both the NSFHP and the 2016 TIGER Discretionary Grants program may apply for the same project to both programs (noted in each application), but must timely submit separate applications that independently address how the project satisfies applicable selection criteria for the relevant grant program.

D. Application and Submission Information

1. Address

Applications must be submitted to Grants.gov. General information for submitting applications through Grants.gov can be found at www.transportation.gov/TIGER along with specific instructions for the forms and attachments required for submission. Failure to submit the information as requested can delay review of the application.

2. Content and Form of Application Submission

Applications must include the Standard Form 424 (Application for Federal Assistance), the Project Narrative, and any additional required attachments as specified by the instructions provided. Applicants should also complete and attach to their application the “TIGER 2016 Project Information” form available at www.transportation.gov/TIGER. Additional clarifying guidance and FAQs to assist applicants in completing the SF-424 are available at www.transportation.gov/TIGER. DOT may ask any applicant to supplement data in its application, but expects applications to be complete upon submission. To the extent practicable, applicants should provide data and evidence of project merits in a form that is verifiable or publicly available.

The Project Narrative (attachment to SF-424) must respond to the application requirements outlined below. The application must include information required for DOT to assess each of the criteria specified in Section E.1 (Criteria). Applicants must demonstrate the responsiveness of a project to any pertinent selection criteria with the most relevant information that they can provide, regardless of whether such information has been specifically requested, or identified, in this notice. An application should provide evidence of the feasibility of achieving project milestones, and of financial capacity and commitment in order to support project readiness.

An application should also include a description of how the project addresses the needs of the area, creates economic opportunity, and sparks community revitalization, particularly for disadvantaged groups.

DOT recommends that the project narrative adhere to the following basic outline and, in addition to a detailed statement of work, project schedule, and project budget, should include a table of contents, maps, and graphics as appropriate that make the information easier to review:

i. Project Description (including a description of what TIGER funds will support, information on the expected users of the project, a description of the transportation challenges that the project aims to address, how the project will address these challenges, and whether, and how, the project promotes Ladders of Opportunity.) Include relevant data, such as passenger or freight volumes, congestion levels, infrastructure condition, and safety experience;

ii. Project Location (a detailed description of the proposed project and geospatial data for the project, including a map of the project's location and its connections to existing transportation infrastructure, as well as a description of the national, regional, or metropolitan area in which the project is located, including economic information such as population size, median income for transportation facility users, or major industries affected, and project map);

iii. Project Parties (information about the grant recipient and other project parties);

iv. Grant Funds and Sources/Uses of Project Funds (information about the amount of grant funding requested, availability/commitment of fund sources and uses of all project funds, total project costs, percentage of project costs that would be paid with TIGER Discretionary Grants funds, and the identity of all parties providing funds for the project and their percentage shares.) Include any other pending or past Federal funding requests for the project as well as Federal funds already provided under other programs and the size, nature/source of the required match for those funds, to clarify that these are not the same funds counted under the matching requirement for this grant request. Describe any restrictions attached to specific funds; compliance or a schedule for compliance with all conditions applicable to each funding source, and, to the extent possible, funding commitment letters from non-Federal sources.

v. Selection Criteria (information about how the project aligns with each of the primary and secondary selection criteria):

(i) Primary Selection Criteria

(a) State of Good Repair

(b) Economic Competitiveness

(c) Quality of Life

(d) Environmental Sustainability

(e) Safety

(ii) Secondary Selection Criteria

(a) Innovation

(b) Partnership

vi. Results of Benefit-Cost Analysis;

vii. Project Readiness, including planning approvals, NEPA and other environmental reviews/approvals, (including information about permitting, legislative approvals, State and local planning, and project partnership and implementation agreements); and

viii. Federal Wage Rate Certification (a certification, signed by the applicant(s), stating that it will comply with the requirements of subchapter IV of chapter 31 of title 40, United States Code [Federal wage rate requirements], as required by the FY 2016 Appropriations Act).

The purpose of this recommended format is to ensure that applications clearly address the program requirements and make critical information readily apparent.

DOT recommends that the project narrative be prepared with standard formatting preferences (i.e., a single-spaced document, using a standard 12-point font, such as Times New Roman, with 1-inch margins). The project narrative may not exceed 30 pages in length. Documentation supporting the assertions made in the narrative portion may also be provided, but should be limited to relevant information. Cover pages, tables of contents, and the federal wage rate certification do not count towards the 30-page limit for the narrative portion of the application. The only substantive portions of the application that may exceed the 30-page limit are any supporting documents (including a more detailed discussion of the benefit-cost analysis) provided to support assertions or conclusions made in the 30-page narrative section. If possible, Web site links to supporting documentation (including a more detailed discussion of the benefit-cost analysis) should be provided rather than copies of these materials. Otherwise, supporting documents should be included as appendices to the application. Applicants' references to supporting documentation should clearly identify the relevant portion of the supporting material. At the applicant's discretion, relevant materials provided previously to a relevant modal administration in support of a different DOT discretionary financial assistance program (for example, New Starts or TIFIA) may be referenced and described as unchanged. This information need not be resubmitted for the TIGER Discretionary Grant application but may be referenced as described above; Web site links to the materials are highly recommended. DOT recommends using appropriately descriptive file names (e.g., “Project Narrative,” “Maps,” “Memoranda of Understanding and Letters of Support,” etc.) for all attachments.

3. Unique Entity Identifier and System for Award Management (SAM)

DOT may not make a TIGER Discretionary Grant award to an applicant until the applicant has complied with all applicable DUNS and SAM requirements. If an applicant has not fully complied with the requirements by the submission deadline, the application will not be considered. To submit an application through Grants.gov, applicants must:

i. Obtain a Data Universal Numbering System (DUNS) number;

ii. Register with the System for Award Management (SAM) at www.SAM.gov;

iii. Create a Grants.gov username and password; and

iv. The E-Business Point of Contact (POC) at the applicant's organization must respond to the registration email from Grants.gov and login at Grants.gov to authorize the applicant as the Authorized Organization Representative (AOR). Please note that there can be more than one AOR for an organization.

For information and instructions on each of these processes, please see instructions at http://www.grants.gov/web/grants/applicants/applicant-faqs.html.

If an applicant is selected for an award, the applicant will be required to maintain an active SAM registration with current information throughout the period of the award.

4. Submission Dates and Times

i. Deadline: Applications must be submitted by 8:00 p.m. EDT on April 29, 2016. The Grants.gov “Apply” function will open on February 26, 2016.

ii. Only applicants who comply with all submission deadlines described in this notice and electronically submit valid applications through Grants.gov will be eligible for award.

Applicants are strongly encouraged to make submissions in advance of the deadline. Please be aware that applicants must complete the Grants.gov registration process before submitting the final application, and that this process usually takes 2-4 weeks to complete. If interested parties experience difficulties at any point during the registration or application process, please call the Grants.gov Customer Support Hotline at 1-800-518-4726, Monday-Friday from 7:00 a.m. to 9:00 p.m. EDT.

iii. Late Applications: DOT will not consider applications received after the deadline except in the case of unforeseen technical difficulties outlined below. DOT will not consider late applications that are the result of failure to register or comply with Grants.gov applicant requirements in a timely manner.

Applicants experiencing technical issues with Grants.gov that are beyond the applicant's control must contact TIGERGrants@dot.gov or Howard Hill at 202-366-0301 prior to the corresponding deadline with the user name of the registrant and details of the technical issue experienced. The applicant must provide:

a. Details of the technical issue experienced.

b. Screen capture(s) of the technical issue experienced along corresponding “Grant tracking number” (Grants.Gov).

c. The “Legal Business Name” for the applicant that was provided in the SF-424 or pre-application.

d. The AOR name submitted in the SF-424 (Grants.gov).

e. The DUNS number associated with the pre-application/application.

f. The Grants.gov or Pre-Application Help Desk Tracking Number.

To ensure a fair competition for limited discretionary funds, the following conditions are not valid reasons to permit late submissions: (1) Failure to complete the registration process before the deadline date; (2) failure to follow Grants.gov instructions on how to register and apply as posted on its Web site; (3) failure to follow all of the instructions in this notice of funding availability; and (4) technical issues experienced with the applicant's computer or information technology (IT) environment. After DOT staff review all of the information submitted and contacted the Grants.gov Help Desk to validate the technical issues reported, DOT staff will contact applicants to either approve or deny the request to submit a late application through Grants.gov. If the technical issues reported cannot be validated, the application will be rejected as untimely.

5. Funding Restrictions

There is no specific set-aside funding solely for pre-construction activities ⁴ in the FY 2016 TIGER Discretionary Grants program. However, these activities may be eligible to the extent that they are part of an overall construction project that receives TIGER Discretionary Grants funding. For TIGER funds to be considered for pre-construction activities, the applicant must clearly state, in the application, the pre-construction activity and amount of TIGER funds that will be expended on that activity.

⁴ Pre-Construction activities are activities related to the planning, preparation, or design of surface transportation projects. These activities include but are not limited to environmental analysis, feasibility studies, design, and engineering of surface transportation projects as described in Section C.3.

E. Application Review Information

1. Criteria

This section specifies the criteria that DOT will use to evaluate and award applications for TIGER Discretionary Grants. The criteria incorporate the statutory eligibility requirements for this program, which are specified in this notice as relevant. There are two categories of selection criteria, “Primary Selection Criteria” and “Secondary Selection Criteria.” Within each relevant selection criterion, applicants are encouraged to present in measurable terms how TIGER investment will lead to transformative change(s) in their community. Projects will also be evaluated for demonstrated project readiness, benefits and costs, and cost share.

i. Primary Selection Criteria

Applications that do not demonstrate a likelihood of significant long-term benefits based on these criteria will not proceed in the evaluation process. DOT does not consider any primary selection criterion more important than the others. The primary selection criteria, which will receive equal consideration, are:

a. Safety. Improving the safety of U.S. transportation facilities and systems for all modes of transportation and users. DOT will assess the project's ability to reduce the number, rate, and consequences of surface transportation-related accidents, serious injuries, and fatalities among transportation users, including pedestrians, the project's contribution to the elimination of highway/rail grade crossings, and the project's contribution to preventing unintended releases of hazardous materials. DOT will consider the project's ability to foster a safe, connected, accessible transportation system for the multimodal movement of goods and people.

b. State of Good Repair. Improving the condition and resilience of existing transportation facilities and systems. DOT will assess whether and to what extent: (1) The project is consistent with relevant plans to maintain transportation facilities or systems in a state of good repair and address current and projected vulnerabilities; (2) if left unimproved, the poor condition of the asset will threaten future transportation network efficiency, mobility of goods or accessibility and mobility of people, or economic growth; (3) the project is appropriately capitalized up front and uses asset management approaches that optimize its long-term cost structure; (4) a sustainable source of revenue is available for operations and maintenance of the project; and (5) the project improves the transportation asset's ability to withstand probable occurrence or recurrence of an emergency or major disaster or other impacts of climate change. Additional consideration will be given to a project's contribution to improving the overall reliability of a multimodal transportation system that serves all users, and to projects that offer significant transformational improvements to the condition of existing transportation systems and facilities.

c. Economic Competitiveness. Contributing to the economic competitiveness of the United States over the medium- to long-term, revitalizing communities, and creating and preserving jobs. DOT will assess whether the project will (1) decrease transportation costs and improve access for Americans with transportation disadvantages through reliable and timely access to employment centers, education and training opportunities, and other basic needs of workers; (2) improve long-term efficiency, reliability or costs in the movement of workers or goods; (3) increase the economic productivity of land, capital, or labor at specific locations, or through community revitalization efforts; (4) result in long-term job creation and other economic opportunities; or (5) help the United States compete in a global economy by facilitating efficient and reliable freight movement, including border infrastructure and projects that have a significant effect on reducing the costs of transporting export cargoes. DOT will prioritize projects that exhibit strong leadership and vision, and are part of a larger strategy to significantly revitalize communities and increase economic opportunities.

d. Quality of Life. Increasing transportation choices and improving access to essential services for people in communities across the United States, particularly for disadvantaged groups. DOT will assess whether the project furthers the six “Livability Principles” developed by DOT with the Department of Housing and Urban Development (HUD) and the Environmental Protection Agency (EPA) as part of the Partnership for Sustainable Communities.⁵ DOT will focus on the first principle, the creation of affordable and convenient transportation choices.⁶ Further, DOT will prioritize projects developed in coordination with land-use planning and economic development decisions, including through programs like TIGER Planning Grants, the Department of Housing and Urban Development's Regional Planning Grants, the Environmental Protection Agency's Brownfield Area-Wide Planning Pilot Program, and technical assistance programs focused on quality of life or economic development planning. DOT will assess the extent to which the project will anchor transformative, positive, and long-lasting quality of life changes at the national, regional or metropolitan level.

⁵ https://www.transportation.gov/livability/101.

⁶ In full, this principle reads: “Provide more transportation choices. Develop safe, reliable and economical transportation choices to decrease household transportation costs, reduce our nations' dependence on foreign oil, improve air quality, reduce greenhouse gas emissions and promote public health.”

e. Environmental Sustainability. Improving energy efficiency, reducing dependence on oil, reducing greenhouse gas emissions, improving water quality, avoiding and mitigating environmental impacts and otherwise benefitting the environment. DOT will assess the project's ability to: (i) Reduce energy use and air or water pollution; (ii) avoid adverse environmental impacts to air or water quality, wetlands, and endangered species; or (iii) provide environmental benefits, such as brownfield redevelopment, ground water recharge in areas of water scarcity, wetlands creation or improved habitat connectivity, and stormwater mitigation, including green infrastructure. Applicants are encouraged to provide quantitative information, including baseline information that demonstrates how the project will reduce energy consumption, stormwater runoff, or achieve other benefits for the environment.

ii. Secondary Selection Criteria

a. Innovation. Use of innovative strategies to pursue the long-term outcomes outlined above. DOT will also assess the extent to which the project uses innovative technology to pursue one or more of the long-term outcomes outlined above or to significantly enhance the operational performance of the transportation system. DOT will also assess the extent to which the project incorporates innovations in transportation funding and finance and leverages both existing and new sources of funding through both traditional and innovative means. Further, DOT will consider the extent to which the project utilizes innovative practices in contracting, congestion management, safety management, asset management, or long-term operations and maintenance. DOT is interested in projects that apply innovative strategies to improve the efficiency of project development or to improve project delivery.

b. Partnership. Demonstrating strong collaboration among a broad range of stakeholders, and the product of a robust, inclusive planning process.

(i) Jurisdictional and Stakeholder Collaboration. DOT will consider the extent to which projects involve multiple partners in project development and funding, such as State and local governments, other public entities, and/or private or nonprofit entities. DOT will also assess the extent to which the project application demonstrates collaboration among neighboring or regional jurisdictions to achieve national, regional, or metropolitan benefits. In the context of public-private partnerships, DOT will assess the extent to which partners are encouraged to ensure long-term asset performance, such as through pay-for-success approaches.

(ii) Disciplinary Integration. DOT will consider the extent to which projects include partnerships that bring together diverse transportation agencies and/or are supported, financially or otherwise, by non-transportation public agencies that are pursuing similar objectives. For example, DOT will give priority to transportation projects that are coordinated with economic development, housing, water infrastructure, and land use plans and policies or other public service efforts. Similarly, DOT will give priority to transportation projects that are coordinated with housing, social services, or education agencies. Projects that demonstrate a robust planning process—such as those conducted with DOT's various planning programs and initiatives, the Department of Housing and Urban Development's Regional Planning Grants and Choice Neighborhood Planning Grants, or the Environmental Protection Agency's Brownfield Area-Wide Planning Pilot Program, as well as technical assistance programs focused on livability or economic development planning—will also be given priority.

iii. Demonstrated Project Readiness

For projects that receive funding in this round of TIGER, DOT must obligate funds by September 30, 2019, or the funding will expire. Therefore, DOT will assess every application to determine whether the project is likely to proceed to obligation by the statutory deadline (see Additional Information on Project Readiness Guidelines located at www.transportation.gov/TIGER for further details), as evidenced by:

a. Technical Feasibility. The technical feasibility of the project should be demonstrated by engineering and design studies and activities; the development of design criteria and/or a basis of design; the basis for the cost estimate presented in the TIGER application, including the identification of contingency levels appropriate to its level of design; and any scope, schedule, and budget risk-mitigation measures. Applicants must include a detailed statement of work that focuses on the technical and engineering aspects of the project and describes in detail the project to be constructed.

b. Financial Feasibility. The viability and completeness of the project's financing package (assuming the availability of the requested TIGER Discretionary Grant funds) should be demonstrated including evidence of stable and reliable capital and (as appropriate) operating fund commitments sufficient to cover estimated costs; the availability of contingency reserves should planned capital or operating revenue sources not materialize; evidence of the financial condition of the project sponsor; and evidence of the grant recipient's ability to manage grants. The applicant must include a detailed project budget in this section of the application containing a breakdown of how the funds will be spent. That budget must estimate—both dollar amount and percentage of cost—the cost of work for each project component. If the project will be completed in segments or phases, a budget for each segment or phase must be included. Budget spending categories must be broken down between TIGER, other Federal, and non-Federal sources,⁷ and identify how each funding source will share in each activity.

⁷ Non-Federal sources include State funds originating from State revenue funded programs, local funds originating from State or local revenue funded programs, private funds or other funding sources of non-Federal origins.

c. Project Schedule. The applicant must include a detailed project schedule that includes all major project milestones—such as start and completion of environmental reviews and approvals; design; right of way acquisition; approval of plan, specification and estimate (PS&E); procurement; and construction- with sufficiently detailed information to demonstrate that:

(i) All necessary pre-construction activities will be complete to allow grant funds to be obligated no later than June 30, 2019, to give DOT reasonable assurance that the TIGER Discretionary Grant funds will be obligated sufficiently in advance of the September 30, 2019, statutory deadline, and that any unexpected delays will not put the funds at risk of expiring before they are obligated;

(ii) the project can begin construction quickly upon receipt of a TIGER Discretionary Grant, and that the grant funds will be spent steadily and expeditiously once construction starts; and

(iii) any applicant that is applying for a TIGER Discretionary Grant and does not own all of the property or right-of-way required to complete the project should provide evidence that the property and/or right-of-way acquisition can and will be completed expeditiously.

DOT may revoke any award of TIGER Discretionary Grant funds and award those funds to another project if the funds cannot be timely obligated or construction does not begin in accordance with the project schedule established in the grant agreement.

d. Required Approvals

(i) Environmental Permits and Reviews. An application for a TIGER Discretionary Grant must detail whether the project will significantly impact the natural, social and/or economic environment. The application should demonstrate receipt (or reasonably anticipated receipt) of all environmental approvals and permits necessary for the project to proceed to construction on the timeline specified in the project schedule and necessary to meet the statutory obligation deadline, including satisfaction of all Federal, State and local requirements and completion of the National Environmental Policy Act (“NEPA”) process. Although Section C.3.iii (Project Components) of this notice encourages applicants to identify independent project components, those components may not be separable for the NEPA process. In such cases, the NEPA review for the independent project component may have to include evaluation of all project components as connected, similar, or cumulative actions, as detailed at 40 CFR 1508.25. The applicant should submit the information listed below with the application:

(1) Information about the NEPA status of the project. If the NEPA process is completed, an applicant must indicate the date of, and provide a Web site link or other reference to the final Categorical Exclusion, Finding of No Significant Impact or Record of Decision. If the NEPA process is underway but not complete, the application must detail the type of NEPA review underway, where the project is in the process, and indicate the anticipated date of completion. Applicants must provide a Web site link or other reference to copies of any NEPA documents prepared.

(2) Information on reviews by other agencies. An application for a TIGER Discretionary Grant must indicate whether the proposed project requires reviews or approval actions by other agencies,⁸ indicate the status of such actions, and provide detailed information about the status of those reviews or approvals and/or demonstrate compliance with any other applicable Federal, State, or local requirements.

⁸ Projects that may impact protected resources such as wetlands, species habitat, cultural or historic resources require review and approval by Federal and State agencies with jurisdiction over those resources. Examples of these reviews and approvals can be found at www.transportation.gov/TIGER.

(3) Environmental studies or other documents—preferably through a Web site link—that describe in detail known project impacts, and possible mitigation for those impacts.

(4) A description of discussions with the appropriate DOT modal administration field or headquarters office regarding compliance with NEPA and other applicable environmental reviews and approvals.

(ii) Legislative Approvals. The applicant should demonstrate receipt of state and local approvals on which the project depends. Additional support from relevant State and local officials is not required; however, an applicant should demonstrate that the project is broadly supported.

(iii) State and Local Planning. The planning requirements of the modal administration administering the TIGER project will apply.⁹ Applicants should demonstrate that a project that is required to be included in the relevant State, metropolitan, and local planning documents has been or will be included. If the project is not included in the relevant planning documents at the time the application is submitted, the applicant should submit a certification from the appropriate planning agency that actions are underway to include the project in the relevant planning document. Because projects have different schedules, the construction start date for each TIGER Discretionary Grant will be specified in the project-specific grant agreements signed by relevant modal administration and the grant recipients and will be based on critical path items identified by applicants in response to items (i)(1) through (4) above.

⁹ All projects requiring an action by the Federal Highway Administration (FHWA) or the Federal Transit Administration (FTA) in accordance with 23 CFR part 450, must be in the metropolitan transportation plan, transportation improvement program (TIP) and statewide transportation improvement program (STIP). Further, in air quality non-attainment and maintenance areas, all regionally significant projects, regardless of the funding source, must be included in the conforming metropolitan transportation plan and TIP. To the extent a project is required to be on a metropolitan transportation plan, TIP, and/or STIP, it will not receive a TIGER Discretionary Grant until it is included in such plans. Projects not currently included in these plans can be amended by the State and metropolitan planning organization (MPO). Projects that are not required to be in long range transportation plans, STIPs, and TIPs will not need to be included in such plans in order to receive a TIGER Discretionary Grant. Port, freight and passenger rail projects are not required to be on the State Rail Plans called for in the Passenger Rail Investment and Improvement Act of 2008. This is consistent with the exemption for high-speed and intercity passenger rail projects under the Recovery Act. However, applicants seeking funding for freight and passenger rail projects are encouraged to demonstrate that they have done sufficient planning to ensure that projects fit into a prioritized list of capital needs and are consistent with long-range goals. To the extent possible, freight projects should be included in a state freight plan and supported by a state freight advisory committee (see MAP-21 §§ 1117-1118). Further information and guidance information on transportation planning and is available from the following FHWA and FTA sites respectively— http://www.fhwa.transportation.gov/planning and http://www.fta.transportation.gov/about/12347.html. Port planning guidelines are available at StrongPorts.gov.

e. Assessment of Project Risks and Mitigation Strategies. The applicant should identify the material risks to the project and the strategies that the lead applicant and any project partners have undertaken or will undertake in order to mitigate those risks. In past rounds of TIGER Discretionary Grants, certain projects have been affected by procurement delays, environmental uncertainties, and increases in real estate acquisition costs. The applicant must assess the greatest risks to the projects and identify how the project parties will mitigate those risks. DOT will consider projects that contain risks so long as the applicant clearly and directly describes achievable mitigation strategies.

The applicant, to the extent they are unfamiliar with the Federal program, should contact DOT modal field or headquarters offices for information on what steps are pre-requisite to the obligation of Federal funds in order to ensure that their project schedule is reasonable and that there are no risks of delays in satisfying Federal requirements.

Contacts for the Federal Highway Administration Division offices—which are located in all 50 States, Washington, DC, and Puerto Rico—can be found at http://www.fhwa.dot.gov/about/field.cfm. Contacts for the ten Federal Transit Administration regional offices can be found at http://www.fta.dot.gov/12926.html. Contacts for the nine Maritime Administration Gateway Offices can be found at http://www.marad.dot.gov/about_us_landing_page/gateway_offices/Gateway_Presence.htm. For Federal Railroad Administration Contacts, please contact TIGER program staff via email at TIGERGrants@dot.gov, or call Howard Hill at 202-366-0301.

iv. Project Costs and Benefits

An applicant for TIGER Discretionary Grants is generally required to identify, quantify, and compare expected benefits and costs, subject to the following qualifications: ¹⁰

¹⁰ DOT has a responsibility under Executive Order 12893, Principles for Federal Infrastructure Investments, 59 FR 4233, to base infrastructure investments on systematic analysis of expected benefits and costs, including both quantitative and qualitative measures.

An applicant must prepare and submit an analysis of benefits and costs. The level of sophistication of the benefit-cost analysis (BCA) should be reasonably related to the size of the overall project and the amount of grant funds requested in the application. For smaller projects, DOT understands that a less detailed analysis for items such as surveys, travel demand forecasts, market forecasts, and statistical analyses is appropriate. For larger projects, DOT expects that applicants will provide a robust and detailed analysis of benefits and costs. Any subjective estimates of benefits and costs should be quantified, and the applicant should provide appropriate evidence to support their subjective estimates. Estimates of benefits should be presented in monetary terms whenever possible; if a monetary estimate is not possible, then at least one non-monetary quantitative estimate (in physical, non-monetary terms) should be provided. Examples of such benefits include:

• Crash rates

• Ridership estimates

• Emissions levels

• Energy efficiency improvements

However, an applicant should use qualitative measures to include benefits that cannot be readily monetized or quantified.

Depending on the level of sophistication of a BCA that is reasonably related to the size of an overall project, the lack of a useful analysis of expected project benefits and costs may be a basis for not selecting a project for award of a TIGER Discretionary Grant. However, DOT will use the results of the BCA review as one of several criteria considered during the TIGER Discretionary Grants evaluation process.

The 2016 Benefit-Cost Analyses Guidance for TIGER Grant Applicants and in the BCA Resource Guide (available at www.transportation.gov/TIGER) provides detailed guidance for preparing benefit-cost analyses. A recording of the Benefit-Cost Analysis Practitioner's Workshop (2010) and two BCA-related webinars are also available for viewing at www.transportation.gov/TIGER, along with examples of benefit-cost analyses that have been submitted in previous rounds of TIGER.

Spreadsheets supporting the benefit-cost analysis should be original Excel spreadsheets, not PDFs of those spreadsheets. Benefits should be presented, whenever possible, in a tabular form showing benefits and costs in each year for the useful life of the project. The application should include projections of costs, travel conditions, safety outcomes, and environmental impacts for both the build and no-build scenarios for the project for each year between the completion of the project and a point in time at least 20 years beyond the project's completion date or the lifespan of the project, whichever is closer to the present. The BCA should demonstrate how the benefits and costs of the proposed project are based on differences in the future values of these measures between the baseline or no-build scenario and with the proposed project in place. Benefits and costs should both be discounted to the year 2016, and calculations should be presented for discounted values of both the stream of benefits and the stream of costs. If the project has multiple components, each of which has independent utility, the benefits and costs of each component should be estimated and presented separately. The results of the benefit-cost analysis should be summarized in the Project Narrative section of the application itself, but the details should be presented in an attachment to the application if the full analysis cannot be included within the page limit for the project narrative.

BCA Flexibility for Tribal Governments: Based on feedback over previous rounds of TIGER, DOT recognizes that the benefit-cost analysis can be particularly burdensome on Tribal governments. Therefore, the Department is providing additional flexibility to Tribal governments for the purposes of this notice. At their discretion, Tribal applicants may elect to provide raw data to support the need for a project (such as crash rates, ridership estimates, and the number of people who will benefit from the project), without additional analysis. DOT will use this data to develop estimates (given the data provided) of benefits and costs. DOT will use these results as one of several criteria considered during the TIGER Discretionary Grants evaluation process. Examples of BCAs by successful Tribal applicants are available online at http://www.transportation.gov/policy-initiatives/tiger/tribal-tiger-bca-examples.

v. Cost Sharing or Matching

The FY 2016 Appropriations Act directs DOT to prioritize projects that require a contribution of Federal funds to complete an overall financing package, and all projects can increase their competitiveness for purposes of the TIGER program by demonstrating significant non-Federal financial contributions. The applicant should clearly demonstrate the extent to which the project cannot be readily and efficiently completed without a TIGER Discretionary Grant, and describe the extent to which other sources of funds, including Federal, State, or local funding, may or may not be readily available for the project. The Department may consider the form of cost sharing presented in an application. Firm commitments of cash that indicate a complete project funding package and demonstrate local support for the project are more competitive than other forms of cost sharing. DOT recognizes that applicants have varying abilities and resources to contribute non-Federal contributions, especially those communities that are not routinely receiving and matching Federal funds. DOT recognizes certain communities with fewer financial resources may struggle to provide cost-share that exceeds the minimum requirements and will, therefore, consider an applicant's broader fiscal constraints when evaluating non-Federal contributions. In the first seven rounds, on average, projects attracted more than 3.5 matching dollars for every TIGER grant dollar.

2. Review and Selection Process

DOT reviews all eligible applications received before the deadline. The TIGER review and selection process consists of three phases: Technical Review, Tier 2 Analysis consisting of project readiness and economic analysis, and Senior Review. A Control and Calibration Team ensures consistency across projects and appropriate documentation throughout the review and selection process. In the Technical Evaluation phase, teams comprising staff from the Office of the Secretary (OST) and modal administrations review all eligible applications and rate projects as Highly Recommended, Recommended, Acceptable, or Not Recommended based on how well the projects align with the selection criteria.

Tier 2 Analysis consists of (1) an Economic Analysis and (2) a Project Readiness Analysis. The Economic Analysis Team, comprising OST and modal administration economic staff, assess the potential benefits and costs of the proposed projects. The Project Readiness Team, comprising Office of the Secretary Office of Policy (OST-P) and modal administration staff, evaluates the proposed project's technical and financial feasibility, potential risks and mitigation strategies, and project schedule, including the status of environmental approvals and readiness to proceed.

In the third review phase, the Senior Review Team, which includes senior leadership from OST and the modal administrations, considers all projects that were rated Acceptable, Recommended, or Highly Recommended and determines which projects to advance to the Secretary as Highly Rated. The Secretary selects from the Highly Rated projects for final awards.

3. Additional Information

Prior to award, each selected applicant will be subject to a risk assessment required by 2 CFR 200.205. The Department must review and consider any information about the applicant that is in the designated integrity and performance system accessible through SAM (currently the Federal Awardee Performance and Integrity Information System (FAPIIS). An applicant may review information in FAPIIS and comment on any information about itself. The Department will consider comments by the applicant in addition to the other information in FAPIIS, in making a judgment about the applicant's integrity, business ethics, and record of performance under Federal awards when completing the review of risk posed by applicants.

F. Federal Award Administration Information

1. Federal Award Notice

Following the evaluation outlined in Section E, the Secretary will announce awarded projects by posting a list of selected projects at www.transportation.gov/TIGER. Following that announcement, the relevant modal administration will contact the point of contact listed in the SF 424 to initiate negotiation of the grant agreement.

2. Administrative and National Policy Requirements

All awards will be administered pursuant to the Uniform Administrative Requirements, Cost Principles and Audit Requirements for Federal Awards found in 2 CFR part 200, as adopted by DOT at 2 CFR part 1201. Additionally, applicable Federal laws, rules and regulations of the relevant modal administration administering the project will apply to the projects that receive TIGER Discretionary Grants awards, including planning requirements, Service Outcome Agreements, Stakeholder Agreements, Buy America compliance, and other requirements under DOT's other highway, transit, rail, and port grant programs.

For projects administered by the Federal Highway Administration (FHWA), applicable Federal laws, rules, and regulations set forth in Title 23 U.S.C. and Title 23 CFR apply. For an illustrative list of the applicable laws, rules, regulations, executive orders, polices, guidelines, and requirements as they relate to a TIGER project administered by the FHWA, please see http://www.ops.fhwa.dot.gov/freight/infrastructure/tiger/fy2015_gr_exhbt/index.htm. For TIGER projects administered by the Federal Transit Administration and partially funded with Federal transit assistance, all relevant requirements under chapter 53 of title 49 U.S.C. apply. For transit projects funded exclusively with TIGER Discretionary Grants funds, some requirements of chapter 53 of title 49 U.S.C. and chapter VI of title 49 CFR apply. For projects administered by the Federal Railroad Administration, FRA requirements described in 49 U.S.C. Subtitle V, Part C apply.

Federal wage rate requirements included in subchapter IV of chapter 31 of title 40, United States Code, apply to all projects receiving funds under this program, and apply to all parts of the project, whether funded with TIGER Discretionary Grant funds, other Federal funds, or non-Federal funds.

3. Reporting

i. Progress Reporting on Grant Activities

Each applicant selected for TIGER Discretionary Grants funding must submit quarterly progress reports and Federal Financial Report (SF-425) on the financial condition of the project and the project's progress, as well as an Annual Budget Review and Program Plan to monitor the use of Federal funds and ensure accountability and financial transparency in the TIGER program.

ii. System Performance Reporting

Each applicant selected for TIGER Discretionary Grant funding must collect information and report on the project's observed performance with respect to the relevant long-term outcomes that are expected to be achieved through construction of the project. Performance indicators will not include formal goals or targets, but will include observed measures under baseline (pre-project) as well as post-implementation outcomes for an agreed-upon timeline, and will be used to evaluate and compare projects and monitor the results that grant funds achieve to the intended long-term outcomes of the TIGER Discretionary Grants program are achieved. To the extent possible, performance indicators used in the reporting should align with the measures included in the application and should relate to at least one of the primary selection criteria defined in Section E. Performance reporting continues for several years after project construction is completed, and DOT does not provide TIGER Discretionary Grant funding specifically for performance reporting.

iii. Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the System for Award Management (SAM) that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice please contact the TIGER Discretionary Grants program staff via email at TIGERGrants@dot.gov, or call Howard Hill at 202-366-0301. A TDD is available for individuals who are deaf or hard of hearing at 202-366-3993. In addition, DOT will post answers to questions and requests for clarifications on DOT's Web site at www.transportation.gov/TIGER. To ensure applicants receive accurate information about eligibility or the program, the applicant is encouraged to contact DOT directly, rather than through intermediaries or third parties, with questions. DOT staff may also conduct briefings on the TIGER Discretionary Grants selection and award process upon request.

H. Other Information

1. Protection of Confidential Business Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions. DOT protects such information from disclosure to the extent allowed under applicable law. In the event DOT receives a Freedom of Information Act (FOIA) request for the information, DOT will follow the procedures described in its FOIA regulations at 49 CFR 7.17. Only information that is ultimately determined to be confidential under that procedure will be exempt from disclosure under FOIA.

Anthony R. Foxx,
Secretary.

[FR Doc. 2016-04217 Filed 2-25-16; 8:45 am]

BILLING CODE 4910-9X-P